DEPARTMENT OF THE INTERIOR

Bureau of Land Management

[LLORP00000.L10200000.DF0000.15XL1109AF.HAG15-0087]

Notice of Public Meeting for the John Day—Snake Resource Advisory Council

AGENCY: Bureau of Land Management, Interior.

ACTION: Notice of public meeting.

SUMMARY: In accordance with the Federal Land Policy and Management Act and the Federal Advisory Committee Act of 1972, and the U.S. Department of the Interior, Bureau of Land Management (BLM), the John Day—Snake Resource Advisory Council (RAC) will meet as indicated below:

DATES: The John Day—Snake RAC will hold a public meeting Wednesday March 11, and Thursday, March 12, 2015. The meeting will run from 1:00 p.m. to 5:00 p.m. on March 11th, and from 8 a.m. to 1:00 p.m. on March 12th. The meeting will be held at the Grant County Airport Conference Room, 72000 Airport Road, John Day, Oregon 97761. A public comment period will be available on the second day of the session.

FOR FURTHER INFORMATION CONTACT: Lisa Clark, Public Affairs Specialist, BLM Prineville District Office, 3050 NE. 3rd Street, Prineville, Oregon 97754, (541) 416-6864, or email lmclark@blm.gov. Persons who use a telecommunications device for the deaf (TDD) may call the Federal Information Relay Service (FIRS) at 1 (800) 877-8339 to contact the above individual during normal business hours. The FIRS is available 24 hours a day, 7 days a week, to leave a message or question with the above individual. You will receive a reply during normal business hours.

SUPPLEMENTARY INFORMATION: The John Day—Snake RAC consists of 15 members chartered and appointed by the Secretary of the Interior. Their diverse perspectives are represented in commodity, conservation, and general interests. They provide advice to BLM and Forest Service resource managers regarding management plans and proposed resource actions on public land in central and eastern Oregon. Agenda items for the March 2015 meeting include an update on the Blue Mountain Forest Plan Revision, an update on the status of the John Day Basin Resource Management Plan, a proposal for a fee increase on the Lower Deschutes River, an update on the Wallowa-Whitman National Forest Hells Canyon Recreation Program, committee and member updates, and any other matters that may reasonably come before the John Day—Snake RAC. This meeting is open to the public. Information to be distributed to the John Day—Snake RAC is requested prior to the start of each meeting. A public comment period will be available on March 12, 2015, at 9:30 a.m. Unless otherwise approved by the John Day—Snake RAC Chair, the public comment period will last no longer than 30 minutes. Each speaker may address the John Day—Snake RAC for a maximum of 5 minutes. A public call-in number is provided on the John Day—Snake RAC Web site at http://www.blm.gov/or/rac/jdrac.php. Meeting times and the duration scheduled for public comment periods may be extended or altered when the authorized representative considers it necessary to accommodate business and all who seek to be heard regarding matters before the John Day—Snake RAC.

Carol Benkosky,
Prineville District Manager.

[FR Doc. 2015-03981 Filed 2-25-15; 8:45 am]

BILLING CODE 4310-33-P